DEPARTMENT OF STATE

[Public Notice 8275]

The United States Advisory Commission on Public Diplomacy Notice of Charter Renewal

The Department of State has renewed the charter of the United States Advisory Commission on Public Diplomacy. The Commission was reauthorized by the Congress and the President under Section 1280 Public Law 112-239, signed into law on January 3, 2013. The Commission authorization is retroactive to October 1, 2010, and continues until October 1, 2015.

Since 1948, the Commission has been charged with appraising U.S. Government public diplomacy activities (activities intended to understand, inform, and influence foreign publics) and increasing the understanding of and support for these same activities. The Commission submits reports to the Congress, the President, and the Secretary of State on public diplomacy programs and activities; submits other reports as it deems appropriate to the Secretary of State, the President, and the Congress; and makes reports and other information available to the public in the United States and abroad, on the Commission's Web site or through other means.

The Commission consists of seven members appointed by the President, by and with the advice and consent of the Senate. The members of the Commission represent the public interest and are be selected from a cross section of educational, communications, cultural, scientific, technical, public service, labor, business, and professional backgrounds. Not more than four members can be from any one political party. The current members of the Commission are: William J. Hybl (Chairman), Sim Farar (Vice Chairman), Lyndon L. Olson, Penne Korth Peacock, Lezlee Westine, and Anne Terman Wedner. One position is vacant.

FOR FURTHER INFORMATION CONTACT: Bruce Armstrong, tel. 202-632-9930; armstrongbw@state.gov.

Dated: April 10, 2013.
Bruce Armstrong,
Staff Director for Resources, Office of the Under Secretary for Public Diplomacy and Public Affairs, Department of State.

[FR Doc. 2013-08902 Filed 4-15-13; 8:45 am]

BILLING CODE 4710-44-P